DEPARTMENT OF LABOR

Employment and Training Administration

[TA-W-37,157]

The Chinet Company, Now Known as Huhtamaki Food Service, Inc., Waterville, ME; Amended Certification Regarding Eligibility To Apply for Worker Adjustment Assistance

In accordance with section 223 of the Trade Act of 1974 (19 U.S.C. 2273) the Department of Labor issued a Certification of Eligibility to Apply for Worker Adjustment Assistance on January 28, 2000, applicable to workers of The Chinet Company, Waterville, Maine. The notice was published in the Federal Register on February 15, 2000 (65 FR 7564).

At the request of the State agency, the Department reviewed the certification for workers of the subject firm. The workers are engaged in the production of laminated molded fiber frozen food trays. The company reports that in June, 2001, The Chinet Company became known as Huhtamaki Food Service, Inc. as a result of a 1999 merger.

Information also shows that workers separated from employment at the subject firm, had their wages reported under a separate unemployment insurance (UI) tax account for Huhtamaki Food Service, Inc.

Accordingly, the Department is amending the certification determination to properly reflect this matter.

The intent of the Department's certification is to include all workers of The Chinet Company, now known as Huhtamaki Food Service, Inc. who were adversely affected by increased imports.

The amended notice applicable to TA-W-37,157 is hereby issued as follows:

All workers of The Chinet Company, now known as Huhtamaki Food Service, Inc., Waterville, Maine who became totally or partially separated from employment on or after November 30, 1998, through January 28, 2002, are eligible to apply for adjustment assistance under Section 223 of the Trade Act of 1974.

Signed at Washington, DC this 10th day of September, 2001.
Edward A. Tomchick,
Director, Division of Trade Adjustment Assistance.

[FR Doc. 01-24813 Filed 10-3-01; 8:45 am]

BILLING CODE 4510-33-M